FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 9, 2016.

A. Federal Reserve Bank of Chicago (Colette A. Fried, Assistant Vice President) 230 South LaSalle Street, Chicago, Illinois 60690-1414:

1. Thomas G. Kenney, individually and acting in concert with Jason T. Kenney, both of Fennimore, Wisconsin, Kevin M. Kenney, Cibolo, Texas, and Kelley L. Adam, Fennimore, Wisconsin; to acquire voting shares of Boscobel Bancorp, Inc., Boscobel, Wisconsin, and thereby indirectly acquire voting shares of Community First Bank, Boscobel, Wisconsin, and Livingston State Bank, Livingston, Wisconsin.

B. Federal Reserve Bank of Minneapolis (Jacquelyn K. Brunmeier, Assistant Vice President) 90 Hennepin Avenue, Minneapolis, Minnesota 55480-0291:

1. Tyler B. Erickson, Bozeman, Montana, the Personal Representative of the Estate of Bruce A. Erickson; to retain voting shares of Guaranty Development Company, Livingston, Montana, and thereby indirectly retain voting shares of American Bank, Bozeman, Montana.

Board of Governors of the Federal Reserve System, April 19, 2016.
Michael J. Lewandowski,
Associate Secretary of the Board.

[FR Doc. 2016-09376 Filed 4-21-16; 8:45 am]

BILLING CODE 6210-01-P